DEPARTMENT OF JUSTICE

Notice of Proposed Settlement Agreement Under the Oil Pollution Act of 1990

Notice is hereby given that the United States Department of Justice, on behalf of the U.S. Department of Commerce, National Oceanic and Atmospheric Administration (“NOAA”) and the U.S. Department of the Interior, Fish and Wildlife Service (“DOI”) (hereinafter referred to together as the “Settling Agencies”) have reached a settlement with Sociedad Naviera Ultragas Ltda. (“Sociedad”) regarding claims for injuries to natural resources arising from an oil spill that occurred in Chelsea Creek, East Boston, Massachusetts.

The Settling Agencies are acting in their capacities as designated natural resource trustees under the Oil Pollution Act of 1990, 33 U.S.C. 2701 et seq. to recover damages for natural resources, as authorized by 33 U.S.C. 2702(b)(2)(A). The oil spill occurred on June 8, 2000, when a tugboat collided with a vessel, spilling approximately 58,000 gallons of fuel oil into Chelsea Creek.

Pursuant to the Agreement, Sociedad will pay $42,136.00 to NOAA and $6,479.00 to DOI, as reimbursement for the Settling Agencies' damage assessment costs. In addition, Sociedad will pay $100,000 to fund the performance of two restoration projects.

The Department of Justice will receive for a period of thirty (30) days from the date of this publication comments relating to the proposed Settlement Agreement. Comments should be addressed to the Assistant Attorney General, Environment and Natural Resources Division, P.O. Box 7611, U.S. Department of Justice, Washington, DC 20044-7611, and should refer to the Settlement Agreement among NOAA, DOI, and Sociedad Naviera Ultragas Ltda, D.J. Ref. 90-5-1-1-07462.

The proposed Settlement Agreement may be examined at the Office of NOAA, Office of General Counsel, One Blackburn Drive, Suite 205, Gloucester, MA 01930. During the public comment period, the proposed Settlement Agreement may also be examined on the following Department of Justice Web site, http://www.usdoj.gov/enrd/open.html. A copy of the proposed Settlement Agreement may be obtained by mail from the Consent Decree Library, P.O. Box 7611, U.S. Department of Justice, Washington, DC 20044-7611 or by faxing or e-mailing a request to Tonia Fleetwood (tonia.fleetwood@usdoj.gov), fax no. (202) 514-0097, telephone confirmation number (202) 514-1547. If requesting a copy of the proposed Settlement Agreement please so note and enclose a check in the amount of $3.25 (25 cents per page reproduction cost) payable to the U.S. Treasury.

Ronald Gluck,
Assistant Chief, Environmental Enforcement Section, Environment and Natural Resources Division.

[FR Doc. 04-5419 Filed 3-10-04; 8:45 am]

BILLING CODE 4410-15-M